DEPARTMENT OF AGRICULTURE

Animal and Plant Health Inspection Service

[Docket No. APHIS-2008-0143]

Availability of an Environmental Assessment for a Biological Control Agent for Russian Thistle

AGENCY: Animal and Plant Health Inspection Service, USDA.

ACTION: Notice of availability and request for comments.

SUMMARY: We are advising the public that the Animal and Plant Health Inspection Service has prepared an environmental assessment relative to the control of Russian thistle, Salsola tragus. The environmental assessment considers the effects of, and alternatives to, the release of a nonindigenous blister mite, Aceria salsolae, for the biological control of Russian thistle in the continental United States. We are making the environmental assessment available to the public for review and comment.

DATES: We will consider all comments that we receive on or before April 9, 2009.

ADDRESSES: You may submit comments by either of the following methods:

• Federal eRulemaking Portal: Go to http://www.regulations.gov/fdmspublic/component/main?main=DocketDetail&d=APHIS-2008-0143 to submit or view comments and to view supporting and related materials available electronically.

• Postal Mail/Commercial Delivery: Please send two copies of your comment to Docket No. APHIS-2008-0143, Regulatory Analysis and Development, PPD, APHIS, Station 3A-03.8, 4700 River Road Unit 118, Riverdale, MD 20737-1238. Please state that your comment refers to Docket No. APHIS-2008-0143.

Reading Room: You may read any comments that we receive on the environmental assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Carmen Soileau, Senior Entomolgist, Evaluation and Permitting of Regulated Organisms and Soil, PPQ, APHIS, 4700 River Road, Unit 133, Riverdale, MD 20737-1237; (301) 734-5055.

SUPPLEMENTARY INFORMATION:

Background

The Animal and Plant Health Inspection Service (APHIS) is proposing to issue permits for release of a nonindigenous blister mite, Aceria salsolae, for the biological control of Russian thistle, Salsola tragus, in the continental United States.

Russian thistle or tumbleweed, is a highly invasive weed native to the mountainous regions of southwest Asia. Since the introduction of Russian thistle to South Dakota in the early 1870s, it has spread steadily throughout the central and western regions of the United States and southern Canada. It is an agricultural pest that grows primarily in fallow or disturbed soil, along roadsides and irrigation canals, and in waste areas in arid and semiarid zones. During drought periods, it can invade some habitats and displace native species. The infestation of Russian thistle causes millions of dollars of damage by disrupting automobile traffic, clogging irrigation canals, piling up against fences and houses, and igniting and spreading wildfires.

There are currently several control methods for Russian thistle, including herbicides, timed grazing, tilling, and other methods. However, these approaches have proven to be ineffective. Therefore, APHIS is proposing to issue permits for the release of a blister mite, Aceria salsolae, into the environment for use as a biological control agent to reduce the severity of Russian thistle infestations in the continental United States.

The proposed biological control agent, A. salsolae, is a mite in the insect family Eriophyid and can be found in Turkey, Uzbekistan, and Greece. The mites are usually hidden in crevices of the leaf axils, flowers, and fruits of the Russian thistle. They feed on the target plant by inserting stylets (needle-like mouth parts) into plant cells and feeding on the cell contents. After about 3 weeks, the leaf meristems (growing tips) die and the mites use the wind to disperse to fresh meristems. Feeding on epidermal cells in meristematic tissue causes cell death of the leaf and flower meristems, thus stunting growth of the plant and delaying and reducing reproduction.

The mite is not expected to directly harm any plants outside the targeted Russian thistle (sensu lato). Host specific tests of A. salsolae were conducted using a total of 39 species and 12 varieties of host plants from 5 families, including 25 native species of North America. After 4 weeks of laboratory experiments, no live mites were found on any of the nontarget test plants outside the genus Salsola and none of the nontarget plants showed any sign of feeding damage. Furthermore, the results clearly show that there was no population increase on these nontarget plant species, particularly in comparison to the population growth observed on Russian thistle.

APHIS' review and analysis of the potential environmental impacts associated with releasing a biological control agent, A. salsolae, into the environment are documented in detail in an environmental assessment (EA) entitled “Field Release of Aceria salsolaea (Acari: Eriophyidae), a Mite for Biological Control of Russian Thistle (Salsola tragus), in the Continental United States” (October 2008). We are making the EA available to the public for review and comment. We will consider all comments that we receive on or before the date listed under the heading DATES at the beginning of this notice.

The EA may be viewed on the Regulations.gov Web site or in our reading room (see ADDRESSES above for instructions for accessing Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 4th day of March 2009.
Kevin Shea,
Acting Administrator, Animal and Plant Health Inspection Service.

[FR Doc. E9-5043 Filed 3-9-09; 8:45 am]

BILLING CODE 3410-34-P